DEPARTMENT OF JUSTICE

Notice of Lodging of Consent Decree Under the Comprehensive Environmental Response, Compensation and Liability Act (“CERCLA”)

Pursuant to Section 122(d)(2) of CERCLA, 42 U.S.C. 9622(d)(2), notice is hereby given that on March 4, 2002, a proposed Consent Decree in United States v. Hybard Paul, Civil Action No. 01-0184-P-L, was lodged with the United States District Court for the Southern District of Alabama.

In this action the United States sought to recover response costs incurred by the Environmental Protection Agency (“EPA”) during the performance of a response action to address releases and threatened releases of hazardous substances at the Walker Springs Wood Treater Superfund Site (“Site”) in Walker Springs, Clarke County, Alabama. The Decree resolves the liability of Defendant Hybard Paul for the United States' past response costs and future costs. The Defendant will make a one-time payment of $250,000 to the Hazardous Substances Superfund. In return, the United States will covenant not to sue or to take administrative action against defendant under Sections 106 and 107(a) of CERCLA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Hybard Paul, DOJ Ref. 90-11-3-07380.

The Consent Decree may be examined at the Office of the United States Attorney, Southern District of Alabama, Riverview Plaza, Suite 600, 63 S. Royal Street, Mobile, Alabama 36602, and at EPA Region 4, Atlanta Federal Center, 61 Forsyth Street, SW., Atlanta, Georgia 30303. A copy of the Consent Decree may also be obtained by mail from the Consent Decree Library, P.O. Box 7611, U.S. Department of Justice, Washington, DC 20044-7611. In requesting a copy, please refer to United States v. Hybard Paul, No. 01-0184-P-L (S.D. Ala.), DOJ Ref. 90-11-3-07380, and enclose a check in the amount of $3.75 (25 cents per page reproduction cost) payable to the Consent Decree Library.

Ellen M. Mahan,
Assistant Section Chief, Environmental Enforcement Section, Environment & Natural Resources Division.

[FR Doc. 02-7025 Filed 3-22-02; 8:45 am]

BILLING CODE 4410-15-M